FEDERAL COMMUNICATIONS COMMISSION

[DA 16-1077]

Final Notice of Intent To Declare the International Section 214 Authorization of IP To Go, LLC Terminated

AGENCY: Federal Communications Commission.

ACTION: Notice.

SUMMARY: In this document, the International Bureau (Bureau) affords IP To Go, LLC (IPTG) final notice and opportunity to respond to the April 11, 2016 letter submitted by the Department of Justice (DOJ) requesting that the FCC terminate, declare null and void and no longer in effect, and/or revoke the international section 214 authorization issued to IPTG under file number ITC-214-20090508-00208.

DATES: Submit comments on or before October 28, 2016.

ADDRESSES: The Bureau is serving a copy of the Public Notice on IPTG by certified mail, return receipt requested at the last addresses of record appearing in Commission records. IPTG should send its response to Denise Coca, Chief, Telecommunications and Analysis Division, International Bureau via email at Denise.Coca@fcc.gov and to Veronica Garcia-Ulloa, Attorney Advisor, Telecommunications and Analysis Division, International Bureau at Veronica.Garcia-Ulloa@fcc.gov and file it in IBFS under File No. ITC-214-20090508-00208 via IBFS at http://licensing.fcc.gov/myibfs/pleading.do.

FOR FURTHER INFORMATION CONTACT: Veronica Garcia-Ulloa, Attorney Advisor, Telecommunications and Analysis Division, International Bureau, at (202) 418-0481 or Veronica.Garcia-Ulloa@fcc.gov.

SUPPLEMENTARY INFORMATION: In the DOJ April 11, 2016 Letter, DOJ states that it believes IPTG is dissolved and claims that IPTG is therefore unable to comply with the conditions of its international section 214 authorization. The Commission conditioned the grant of authority on IPTG abiding by the commitments and undertakings set forth in the November 21, 2011 Agreement from the president of IPTG to DHS. On July 5, 2016, the Bureau's Telecommunications and Analysis Division sent a letter to IPTG at the last known addresses on record via certified, return receipt mail, asking IPTG to respond to DOJ's allegations by August 3, 2016. The Bureau July 5, 2016 Letter stated that failure to respond would result in the issuance of an order to terminate IPTG's international section 214 authorization. IPTG did not respond to the request.

In addition, IPTG may also be in violation of several other Commission rules and requirements. After having received an international section 214 authorization, pursuant to section 63.21(a), a carrier “is responsible for the continuing accuracy of the certifications made in its application” and must correct information no longer accurate “as promptly as possible and, in any event, within thirty (30) days.” There is no indication that IPTG is currently providing service pursuant to its international section 214 authorization. If IPTG has discontinued service that affected customers, it may also be in violation of section 63.19(a) of the Commission's rules requiring prior notification for such a discontinuance. As part of its authorization, IPTG must file annual international telecommunications traffic and revenue as required by section 43.62 of the Commission rules. Section 43.62(b) states that “[n]ot later than July 31 of each year, each person or entity that holds an authorization pursuant to section 214 to provide international telecommunications service shall report whether it provided international telecommunications services during the preceding calendar year.” Our records indicate that IPTG failed to file an annual international telecommunications traffic and revenue report indicating whether or not IPTG provided services in 2014 and 2015 and may be in violation of section 43.62 of the Commission rules. All carriers were required to file their section 43.62 traffic and revenue reports for data as of December 31, 2014 by July 31, 2015 and for data as of December 31, 2015 by July 31, 2016. Furthermore, IPTG has an outstanding debt and consequently its account is red lighted through the Red Light Display System. IPTG must visit the Commission's Red Light Display System's to pay its outstanding debt. IPTG's outstanding debt involves regulatory fees. In addition to financial penalties, section 159(c)(3) of the Communications Act and section 1.1164(f) of the Commission's rules grant the Commission the authority to revoke authorizations for failure to timely pay regulatory fees.

IPTG's failure to respond to this Public Notice will be deemed as an admission of the facts alleged by DOJ and of the violation of the statutory and rule provisions set out above. The Bureau hereby provides final notice to IPTG that it intends to take action to declare IPTG's international 214 authorization terminated for failure to comply with conditions of its authorization. We further advise IPTG that its non-compliance with the applicable regulatory provisions would warrant termination wholly apart from demonstrating IPTG's inability to satisfy the conditions of its authorization. IPTG must respond to this Public Notice and the issues alleged in the DOJ April 11, 2016 Letter, no later than 15 days after publication in the Federal Register.

The proceeding in this Notice shall be treated as a “permit-but-disclose” proceeding in accordance with the Commission's ex parte rules.

Federal Communications Commission.
Denise Coca,
Chief, Telecommunications & Analysis Division, International Bureau.

[FR Doc. 2016-24770 Filed 10-12-16; 8:45 am]

BILLING CODE 6712-01-P